DEPARTMENT OF ENERGY

Advanced Scientific Computing Advisory Committee

AGENCY: Department of Energy, Office of Science.

ACTION: Notice of open meeting.

SUMMARY: This notice announces an open meeting of the Advanced Scientific Computing Advisory Committee (ASCAC). The Federal Advisory Committee Act (Pub. L. 92-463, 86 Stat. 770) requires that public notice of these meetings be announced in the Federal Register.

DATES: Tuesday, November 1, 2011, 9 a.m.-5 p.m. Wednesday, November 2, 2011, 9 a.m.-12 p.m.

ADDRESSES: American Geophysical Union (AGU), 2000 Florida Avenue, NW., Washington, DC 20009

FOR FURTHER INFORMATION CONTACT: Melea Baker, Office of Advanced Scientific Computing Research; SC-21/Germantown Building; U. S. Department of Energy; 1000 Independence Avenue, SW.; Washington, DC 20585-1290; Telephone (301) 903-7486.

SUPPLEMENTARY INFORMATION: Purpose of the Meeting: The purpose of this meeting is to provide advice and guidance to the Department of Energy on scientific priorities within the field of advanced scientific computing research.

Tentative Agenda Topics:

• View from Washington

• View from Germantown

• Update on Exascale

• Update on ARRA projects

• Report from CSGF subcommittee

• Report from Networking COV

• Early Career technical talks on HPC Reliability, Diffusion on Complex Networks, and Reversible Software Execution Systems

• Report from Applied Math Workshop on Mathematics for the Analysis, Simulation, and Optimization of Complex Systems

• Report from ASCR-BES Workshop on Data Challenges from Next Generation Facilities

• Public Comment (10-minute rule)

Public Participation: The meeting is open to the public. A webcast of this meeting may be available. Please check the website below for updates and information on how to view the meeting. If you would like to file a written statement with the Committee, you may do so either before or after the meeting. If you would like to make oral statements regarding any of the items on the agenda, you should contact Melea Baker by telephone at: (301) 903-7486 or by email at: Melea.Baker@science.doe.gov. You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for viewing on the Office of Advanced Scientific Computing Web site at: http://www.sc.doe.gov/ascr.

Issued at Washington, DC on October 12, 2011.
LaTanya R. Butler,
Acting Deputy Committee Management Officer.

[FR Doc. 2011-26879 Filed 10-17-11; 8:45 am]

BILLING CODE 6450-01-P